DEPARTMENT OF HOMELAND SECURITY

Coast Guard

[USCG-2006-24051]

National Boating Safety Advisory Council

AGENCY: Coast Guard, DHS.

ACTION: Notice of meetings.

SUMMARY: The National Boating Safety Advisory Council (NBSAC) and its subcommittees on boats and associated equipment, aftermarket marine equipment, and prevention through people will meet to discuss various issues relating to recreational boating safety. All meetings will be open to the public.

DATES: NBSAC will meet on Saturday, April 1, 2006, from 8:30 a.m. to 12 noon, and on Tuesday, April 4, 2006, from 8:30 a.m. to 5 p.m. The Boats and Associated Equipment Subcommittee will meet on Saturday, April 1, 2006, from 1:30 p.m. to 5 p.m. The Prevention Through People Subcommittee will meet on Sunday, April 2, 2006, from 8:30 p.m. to 12 noon. The Recreational Boating Safety Strategic Planning Subcommittee will meet on Sunday, April 2, 2006, from 1:30 p.m. to 5 p.m. These meetings may close early if all business is finished. On Sunday, April 2, the second subcommittee meeting may start earlier if the preceding subcommittee meeting has closed early.

Written material and requests to make oral presentations should reach the Coast Guard on or before Thursday, March 16, 2006. Requests to have a copy of your material distributed to each member of the Council or subcommittees in advance of the meeting should reach the Coast Guard on or before Monday, March 13, 2006.

ADDRESSES: NBSAC will meet at the Hampton Inn Las Vegas-Tropicana, 4975 Dean Martin Drive, Las Vegas, NV 89118-1655. The subcommittee meetings will be held at the same address. Send written material and requests to make oral presentations to Ms. Jeanne Timmons, Executive Director of NBSAC, Commandant (G-PCB), U.S. Coast Guard Headquarters, 2100 Second Street, SW., Washington, DC 20593-0001. This notice is available on the Internet at http://dms.dot.gov or at the Web site for the Office of Boating Safety at URL address http://www.uscgboating.org.

FOR FURTHER INFORMATION CONTACT: Ms. Jeanne Timmons, Executive Director of NBSAC, telephone 202-267-1077, fax 202-267-4285. You may obtain a copy of this notice by calling the U. S. Coast Guard Infoline at 1-800-368-5647.

SUPPLEMENTARY INFORMATION: Notice of these meetings is given under the Federal Advisory Committee Act, 5 U.S.C. App. 2.

Tentative Agendas of Meetings

National Boating Safety Advisory Council (NBSAC). The agenda includes the following:

(1) Remarks—Rear Admiral Craig E. Bone, Director of Inspections and Compliance, and Council Sponsor.

(2) Chief, Office of Boating Safety Update on NBSAC Resolutions and Recreational Boating Safety Program report.

(3) Executive Director's report.

(4) Recreational Boating Safety Program Goal Setting Project.

(5) Chairman's session.

(6) Report from TSAC Liaison.

(7) Report from NAVSAC Liaison.

(8) Coast Guard Auxiliary report.

(9) National Association of State Boating Law Administrators Report.

(10) Wallop-Breaux funding update.

(11) Update on development of Vessel Identification System.

(12) Report on future boating studies.

(13) Boats and Associated Equipment Subcommittee report.

(14) Prevention Through People Subcommittee report.

(15) Recreational Boating Safety Strategic Planning Subcommittee report.

Prevention Through People Subcommittee. The agenda includes the following: Discuss current projects, grants, contracts and new issues impacting prevention through people.

Boats and Associated Equipment Subcommittee. The agenda includes the following: Discuss current projects, grants, contracts and new issues impacting boats and associated equipment.

Recreational Boating Safety Strategic Planning Subcommittee. The agenda includes the following: Discuss current projects, grants, contracts and new issues impacting Recreational Boating Safety Strategic Planning.

Procedural

All meetings are open to the public. At the Chairs' discretion, members of the public may make oral presentations during the meetings. If you would like to make an oral presentation at a meeting, please notify the Executive Director of your request no later than Thursday, March 16, 2006. Written material for distribution at a meeting should reach the Coast Guard no later than Thursday, March 16, 2006. If you would like a copy of your material distributed to each member of the committee or subcommittee in advance of a meeting, please submit 25 copies to the Executive Director no later than Monday, March 13, 2006.

Information on Services for Individuals With Disabilities

For information on facilities or services for individuals with disabilities or to request special assistance at the meetings, contact the Executive Director as soon as possible.

Dated: March 3, 2006.
C. E. Bone,
Rear Admiral, U.S. Coast Guard, Director of Inspection and Compliance.

[FR Doc. E6-3408 Filed 3-9-06; 8:45 am]

BILLING CODE 4910-15-P